DEPARTMENT OF VETERANS AFFAIRS

Advisory Committee on Geriatrics and Gerontology, Notice of Meeting

The Department of Veterans Affairs gives notice that a meeting of the Geriatrics and Gerontology Advisory Committee (GGAC) will be held on December 19-20, 2001, in the Board Room of the Hotel Lombardy located at 2019 Pennsylvania Avenue, NW., Washington, DC. The Committee will meet from 8:30 a.m. until 5 p.m. (EST) on December 19 and from 8:30 a.m. until noon on December 20. On December 19, the topics to be presented/discussed include:

• Site visits to five new Geriatric Research, Education, and Clinical Centers (GRECCs)

• Update on current issues of the Millennium Act

• Geriatrics and Extended Care Initiatives

• Status of Geriatric Fellowship Program

On December 20, the Committee will discuss administrative matters and the general status of the program. The meeting will be open to the public. Individuals who wish to attend the meeting should contact Jacqueline Holmes, Staff Assistant, Geriatrics and Extended Care Strategic Healthcare Group at (202) 273-8539.

Dated: November 29, 2001.
By Direction of the Secretary.
Nora E. Egan,
Committee Management Officer.

[FR Doc. 01-30089 Filed 12-4-01; 8:45 am]

BILLING CODE 8320-01-M